DEPARTMENT OF THE INTERIOR

Fish and Wildlife Service

[FWS-HQ-NCTC-2021-N197; FXGO16610900600 (212) FF09X35000; OMB Control Number 1018-0176]

Agency Information Collection Activities; Submission to the Office of Management and Budget for Review and Approval; Native Youth Community Adaptation and Leadership Congress

AGENCY: Fish and Wildlife Service, Interior.

ACTION: Notice of information collection; request for comment.

SUMMARY: In accordance with the Paperwork Reduction Act of 1995, we, the U.S. Fish and Wildlife Service (Service), are proposing to revise a currently approved information collection.

DATES: Interested persons are invited to submit comments on or before November 26, 2021.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0176” in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On July 19, 2021, we published in the Federal Register (86 FR 38111) a notice of our intent to request that OMB approve a revision to this information collection. In that notice, we solicited comments for 60 days, ending on September 17, 2021. No comments were received in response to that notice.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Service offers eligible Native American, Alaskan Native, and Pacific Islander high school students the opportunity to apply for the Native Youth Community Adaptation and Leadership Congress (Congress). The mission of the Congress is to develop future conservation leaders with the skills, knowledge, and tools to address environmental change and conservation challenges to better serve their schools and home communities. The Congress supports and operates under the following authorities:

• Executive Order (E.O.) 13175, “Consultation and Coordination With Indian Tribal Governments” (November 6, 2000);

• E.O. 13515, “Increasing Participation of Asian Americans and Pacific Islanders in Federal Programs” (October 14, 2009);

• E.O. 13592, “Improving American Indian and Alaska Native Educational Opportunities and Strengthening Tribal Colleges and Universities” (December 2, 2011);

• Public Law 116-9, Section 9003, “John D. Dingell, Jr. Conservation, Management, and Recreation Act” (March 12, 2019);

• 16 U.S.C. 1727b, Indian Youth Service Corps;

• White House Memorandum on Government-to-Government Relationships with Tribal Governments (September 23, 2004);

• Secretarial Order (S.O.) 3206, “American Indian Tribal Rights, Federal-Tribal Trust Responsibilities, and the Endangered Species Act,” issued jointly by the Department of the Interior and the Department of Commerce (June 5, 1997);

• S.O. 3317, “DOI Policy: Department of the Interior Policy on Consultation with Indian Tribes” (December 1, 2011);

• S.O. 3335, “Reaffirmation of the Federal Trust Responsibility to Federally Recognized Indian Tribes and Individual Indian Beneficiaries” (August 20, 2014); and

• The Service's Native American Policy (510 FW 1), published January 20, 2016.

The following Federal partners assist and support the Service's administration of the Congress:

• The U.S. Department of the Interior—

—Bureau of Indian Affairs;

—Bureau of Land Management;

—National Park Service; and

—United States Geological Survey;

• The U.S. Department of Agriculture—U.S. Forest Service;

• The U.S. Department of Commerce—National Oceanic and Atmospheric Administration;

• The Federal Emergency Management Agency; and

• The National Aeronautics and Space Administration.

The weeklong environmental conference fosters an inclusive, meaningful, and educational opportunity for aspiring Native youth leaders interested in addressing environmental issues facing Native American, Alaskan Native, and Pacific Islander communities. Eligible students—representing a diverse mix of Native communities from various geographic locations, both urban and rural—compete for the opportunity to represent their Native communities from across the country. The students learn about environmental change and conservation while strengthening their leadership skills for addressing conservation issues within their own Native communities.

Through a cooperative agreement with the New Mexico Wildlife Federation (NMWF), the Service solicits and evaluates applications from eligible students interested in applying for the program. The NMWF notifies successful applicants and arranges all travel for them. Information collected from each applicant via an online application administered by the NMWF includes:

• Applicant's full name, contact information, date of birth, and Tribal/community affiliation;

• Emergency contact information for applicant;

• Name and contact information of applicant's mentor;

• Applicant's school name and address;

• Applicant's current grade in school;

• Applicant's participation in extracurricular activities, school clubs, or community organizations;

• Applicant's volunteer experience; and

• Applicant's accomplishments or awards received.

Successful applicants also complete Form 3-2525, “Native Youth Community Adaptation and Leadership Congress Student Medical Information,” which collects the following information:

• Student's full name and preferred name;

• Date of birth;

• Age;

• Health insurance policy information;

• Medication information, to include dose and frequency;

• Drug and/or food sensitivities/allergies;

• Medications and immunizations; and

• Pre-existing condition(s).

Each applicant also provides essay responses to questions concerning topics such as environmental issues affecting their home/Tribal community, how or whether the environmental issues are addressed, and/or how, as a Native youth leader, they can lead the community in adapting to a changing environment. Successful applicants must also provide basic medical information to assure their health and safety while on site at the National Conservation Training Center. The on-site nurse keeps this information strictly confidential, for use only in an emergency.

Proposed Revisions Requiring OMB Approval

The following forms used with the Congress require OMB approval:

• Form 3-2546, “Enrollment Form,” which collects the following information:

—Applicant's full name, address, and contact information;

—Parent/guardian name and contact information;

—Student's age, date of birth, and gender;

—Student's high school year;

—Student's high school name, address, and contact information; and

—Chaperone name.

• Form 3-2547, “Parental Consent Form,” which collects the following information:

—Name of student and date of birth;

—Student address, school, grade, and contact information; and

—Student's physician name, address, and contact information.

• Form 3-2548, “Student Conduct Agreement,” which collects the following information:

—Student's full name and preferred name;

—Student signature and signature date; and

—Parent/guardian name, signature, and signature date.

• Form 3-2549, “Mentor Waiver,” which collects the following information:

—Mentor name;

—Mentor signature and signature date;

—Emergency contact name and contact number.

Title of Collection: Native Youth Community Adaptation and Leadership Congress.

OMB Control Number: 1018-0176.

Form Numbers: Forms 3-2525, 3-2546, 3-2547, 3-2548, and 3-2549.

Type of Review: Revision of a currently approved information collection.

Respondents/Affected Public: Eligible high school or college students interested in applying for the program.

Respondent's Obligation: Voluntary.

Frequency of Collection: On occasion.

Total Estimated Annual Nonhour Burden Cost: None.

Activity | Total annual responses | Completion time per response | Total annual burden hours
Application (Online) | 105 | 4 Hours | 420
Form 3-2525, Student Medical Information | 100 | 30 Mins | 50
Form 3-2546, Enrollment Form | 100 | 18 mins | 30
Form 3-2547, Parental Consent Form | 100 | 12 Mins | 20
Form 3-2548, Student Conduct Agreement | 100 | 12 Mins | 20
Form 3-2549, Mentor Waiver | 30 | 12 Mins | 6
Totals | 535 |  | 546

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2021-23415 Filed 10-26-21; 8:45 am]

BILLING CODE 4333-15-P